DEPARTMENT OF ENERGY

Federal Energy Regulatory Commission

[Project Nos. P-1892-026, P-1855-045 and P-1904-073; Project Nos. P-1889-081 and P-2485-063]

TransCanada Hydro Northeast Inc.; FirstLight Hydro Generating Company; Notice of Intent To File License Application, Filing of Pre-Application Document (PAD), Commencement of Pre-Filing Process, and Scoping; Request for Comments on the PAD and Scoping Document, and Identification of Issues and Associated Study Requests

a. Type of Filing: Notice of Intent to File License Application for a New License and Commencing Pre-filing Process.

b. Project Nos.: P-1892-026, P-1855-045, P-1904-073, P-1889-081, and P-2485-063.

c. Dated Filed: October 31, 2012.

d. Submitted By: TransCanada Hydro Northeast Inc. (P-1892-026, P-1855-045, and P-1904-073); FirstLight Hydro Generating Company (P-1889-081, and P-2485-063).

e. Names of Projects: Wilder Project (P-1892-026), Bellows Falls Project (P-1855-045), Vernon Project (P-1904-073), Turners Falls Project (P-1889-081), Northfield Mountain Pumped Storage Project (P-2485-063).

f. Location: The Wilder Project is located on the Connecticut River in Orange and Windsor Counties, Vermont (VT) and Grafton County, New Hampshire (NH).

The Bellows Falls Project is located on the Connecticut River in Windham County, VT and Cheshire County, NH.

The Vernon Project is located on the Connecticut River in Windsor and Windham Counties, VT and Sullivan and Cheshire Counties, NH.

The Turners Falls Project and Northfield Mountain Pumped Storage Project are located on the Connecticut River in Franklin County, Massachusetts (MA), Windham County, VT and Cheshire County, NH. The Turners Falls impoundment on the Connecticut River is also the lower reservoir for the Northfield Mountain Pumped Storage Project.

The Turners Falls Project is the only project that includes federal lands. Approximately 20 acres of federally-owned lands are associated with the Department of the Interior's U.S. Geological Survey (USGS) Conte Laboratory, located within the Turners Falls project boundary.

g. Filed Pursuant to: 18 CFR part 5 of the Commission's Regulations.

h. Applicant Contacts: Wilder, Bellows Falls, and Vernon Projects—John Ragonese, Relicensing Project Manager, TransCanada Hydro Northeast Inc., 4 Park Street, Suite 402, Concord, NH 03301, (603) 498-2851, or email John_Ragonese@transcanada.com.

Turners Falls and Northfield Mountain Pumped Storage Projects—John S. Howard, Director—FERC Hydro Compliance, FirstLight Hydro Generating Company, Northfield Mountain Station, 99 Millers Falls Road, Northfield, MA 01360, (413) 659-4489 or email John.Howard@gdfsuezna.com.

i. FERC Contact: Ken Hogan at (202) 502-8434 or email at Kenneth.Hogan@ferc.gov.

j. Cooperating agencies: Federal, state, local, and tribal agencies with jurisdiction and/or special expertise with respect to environmental issues that wish to cooperate in the preparation of the environmental document should follow the instructions for filing such requests described in item o below. Cooperating agencies should note the Commission's policy that agencies that cooperate in the preparation of the environmental document cannot also intervene. See 94 FERC ¶ 61,076 (2001).

k. With this notice, we are initiating informal consultation with: (a) the U.S. Fish and Wildlife Service and/or NOAA Fisheries under section 7 of the Endangered Species Act and the joint agency regulations thereunder at 50 CFR, Part 402, and (b) the State Historic Preservation Officer, as required by section 106, National Historical Preservation Act, and the implementing regulations of the Advisory Council on Historic Preservation at 36 CFR 800.2.

l. With this notice, we are designating TransCanada Hydro Northeast Inc., and FirstLight Hydro Generating Company as the Commission's non-federal representatives for carrying out informal consultation, pursuant to section 7 of the Endangered Species Act and section 106 of the National Historic Preservation Act for their respective projects.

m. Both TransCanada Hydro Northeast Inc., and FirstLight Hydro Generating Company filed with the Commission a Pre-Application Documents (PAD; including a proposed process plan and schedule), pursuant to 18 CFR 5.6 of the Commission's regulations.

n. Copies of the PADs are available for review at the Commission in the Public Reference Room or may be viewed on the Commission's Web site (http://www.ferc.gov), using the “eLibrary” link. Enter the project specific docket number, excluding the last three digits in the docket number field to access the document. For assistance, contact FERC Online Support at FERCOnlineSupport@ferc.gov or toll free at 1-866-208-3676, or for TTY, (202) 502-8659. A copy is also available for inspection and reproduction at the addresses in paragraph h.

Register online at http://www.ferc.gov/docs-filing/esubscription.asp to be notified via email of new filing and issuances related to these or other pending projects. For assistance, contact FERC Online Support.

o. With this notice, we are soliciting comments on the PADs and the Commission's staff Scoping Document 1 (SD1), as well as study requests. All comments on the PAD and SD1, and study requests should be sent to the addresses above in paragraph h. In addition, all comments on the PAD and SD1, study requests, requests for cooperating agency status, and all communications to and from Commission staff related to the merits of the potential application must be filed with the Commission. Documents may be filed electronically via the Internet. See 18 CFR § 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426.

All filings with the Commission must clearly identify the following on the first page as appropriate: Wilder Project No. 1892-026, Bellows Falls Project No. 1855-045, Vernon Project No. 1904-073, Turners Falls Project No. 1889-081), and/or Northfield Mountain Pumped Storage Project No. 2485-063, and bear the appropriate heading: “Comments on Pre-Application Document,” “Study Requests,” “Comments on Scoping Document 1,” “Request for Cooperating Agency Status,” or “Communications to and from Commission Staff.” Any individual or entity interested in submitting study requests, commenting on the PAD or SD1, and any agency requesting cooperating status must do so by March 1, 2013.

p. Scoping Process: The Commission intends to prepare a multi-project Environmental Impact Statement (EIS) for the projects' licensing in accordance with the National Environmental Policy Act (NEPA). The EIS will consider both site-specific and cumulative environmental impacts and reasonable alternatives to the proposed actions.

Scoping Meetings

Commission staff will hold six project specific scoping meetings in the vicinity of each project at the times and places noted below. The daytime meetings will focus on resource agency, Indian tribes, and non-governmental organization concerns, while the evening meetings are primarily for receiving input from the public. We invite all interested individuals, organizations, and agencies to attend one or both of the meeting types, and to assist staff in identifying particular study needs, as well as the scope of environmental issues to be addressed in the environmental document. The times and locations of these meetings are as follows:

Wilder Project—Evening Scoping Meeting

Date & Time: Monday January 28, 2013 at 7:00 p.m.

Location: Kilton Public Library, 80 Main Street, West Lebanon, NH 03784, 603-298-8544.

For directions please visit: http://www.leblibrary.com/getting-here.

Wilder & Bellows Falls Projects—Joint Daytime Scoping Meeting

Date & Time: Tuesday, January 29, 2013 at 9:00 a.m.

Location: Kilton Public Library, 80 Main Street, West Lebanon, NH 03784, 603-298-8544.

For directions please visit: http://www.leblibrary.com/getting-here.

Bellows Falls—Evening Scoping Meeting

Date & Time: Tuesday, January 29, 2013 at 7:00 p.m.

Location: Bellows Falls Middle School, 15 School St., Bellows Falls, VT 05101.

For directions please call Bev Baldasaro at (802) 463-4366.

Vernon, Northfield Mountain, and Turners Falls Projects—Joint Daytime Scoping Meeting

Date & Time: Wednesday, January 30, 2013 at 9:00 a.m.

Location: Great Falls Discovery Center, 2 Avenue A., Turners Falls, MA 01376, (413) 863-3221.

For directions please visit: http://www.greatfallsma.org/.

Vernon Project—Evening Scoping Meeting

Date & Time: Wednesday, January 30, 2013 at 7:00 p.m.

Location: Marlboro College Graduate School, 28 Vernon Street, Brattleboro, VT 05301, Grad School Common Area, 1st Floor, (802) 258-9200.

For directions please visit: http://gradschool.marlboro.edu/contact/.

Northfield Mountain and Turners Falls Projects—Joint Scoping Evening Meeting

Date & Time: Thursday, January 31, 2013 at 6:00 p.m.

Location: Great Falls Discovery Center, 2 Avenue A., Turners Falls, MA 01376, (413) 863-3221.

For directions please visit: http://www.greatfallsma.org/.

In addition to the six project specific scoping meetings identified above, we will hold a public scoping meeting specifically to identify cumulatively effected resources and to help identify the incremental effect of licensing these five Connecticut River projects with other past, present and reasonably foreseeable future actions within the Connecticut River Basin. We invite all interested agencies, Indian tribes, NGOs, and individuals to attend the Cumulative Effects scoping meeting to assist us in identifying cumulatively effected resources and the associated geographic scope that should be analyzed in the EIS. The time and location of that meeting is:

Connecticut River Projects' Cumulative Effects—Daytime Scoping Meeting

Date & Time: Thursday, January 31, 2013 at 9:00 a.m.

Location: Great Falls Discovery Center, 2 Avenue A., Turners Falls, MA 01376, (413) 863-3221.

For directions please visit: http://www.greatfallsma.org/.

Scoping Document 1 (SD1), which outlines the subject areas to be addressed in the environmental document, was mailed to the individuals and entities on the Commission's mailing list. Copies of SD1 will be available at the scoping meetings, or may be viewed on the Web at http://www.ferc.gov, using the “eLibrary” link. Follow the directions for accessing information in paragraph n. Based on all oral and written comments, a Scoping Document 2 (SD2) may be issued. SD2 may include a revised process plan and schedule, as well as a list of issues, identified through the scoping process.

Meeting Objectives

At the scoping meetings, staff will: (1) Initiate scoping of the issues; (2) review and discuss existing conditions and resource management objectives; (3) review and discuss existing information and identify preliminary information and study needs; (4) review and discuss the process plan and schedule for pre-filing activity that incorporates the time frames provided for in Part 5 of the Commission's regulations and, to the extent possible, maximizes coordination of federal, state, and tribal permitting and certification processes; and (5) discuss the appropriateness of any federal or state agency or Indian tribe acting as a cooperating agency for development of an environmental document.

Meeting participants should come prepared to discuss their issues and/or concerns. Please review the PAD in preparation for the scoping meetings. Directions on how to obtain a copy of the PAD and SD1 are included in item n. of this document.

Meeting Procedures

The meetings will be recorded by a stenographer and will be placed in the public records of the project.

Environmental Site Review

An environmental site review is typically held in conjunction with the Commission's NEPA scoping meetings. However, Commission staff anticipated that access to some project facilities would be limited by winter weather conditions during the early part of 2013 when scoping for these projects was scheduled. For this reason, and to provide all interested stakeholders an opportunity to view the projects' facilities, the Commission hosted the environmental site reviews in October 2012, before the onset of winter. Public notice of the environmental site reviews was issued on August 3, 2012, and published in eight newspapers from the Connecticut River projects' region. The site visits were widely attended by individuals representing, local, state, and federal government agencies, NGOs, and members of the public. At this time, the Commission does not intend to host any future environmental site reviews for these five Connecticut River projects.

Dated: December 21, 2012.
Kimberly D. Bose,
Secretary.

[FR Doc. 2013-00015 Filed 1-4-13; 8:45 am]

BILLING CODE 6717-01-P